DEPARTMENT OF TRANSPORTATION

Federal Aviation Administration

14 CFR Part 97

[Docket No. 31018; Amdt. No. 3644]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective May 21, 2015. The compliance date for each SIAP, associated Takeoff Minimums, and ODP is specified in the amendatory provisions.

The incorporation by reference of certain publications listed in the regulations is approved by the Director of the Federal Register as of May 21, 2015.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420) Flight Technologies and Procedures Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) Is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air traffic control, Airports, Incorporation by reference, Navigation (air).

Issued in Washington, DC, on May 8, 2015.
John Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
25-Jun-15 | OH | Athens/Albany | Ohio University | 5/0187 | 04/22/15 | ILS OR LOC RWY 25, Amdt 1B.
25-Jun-15 | OH | Athens/Albany | Ohio University | 5/0198 | 04/22/15 | NDB RWY 25, Amdt 9A.
25-Jun-15 | OH | Athens/Albany | Ohio University | 5/0199 | 04/22/15 | RNAV (GPS) RWY 25, Amdt 1A.
25-Jun-15 | OH | Athens/Albany | Ohio University | 5/0200 | 04/22/15 | RNAV (GPS) RWY 7, Amdt 1.
25-Jun-15 | IA | Fort Dodge | Fort Dodge Rgnl | 5/0389 | 04/21/15 | RNAV (GPS) RWY 12, Amdt 1.
25-Jun-15 | IA | Fort Dodge | Fort Dodge Rgnl | 5/0391 | 04/21/15 | RNAV (GPS) RWY 24, Amdt 1.
25-Jun-15 | MI | Detroit | Willow Run | 5/0564 | 04/29/15 | RNAV (GPS) RWY 23R, Amdt 1.
25-Jun-15 | MI | Detroit | Willow Run | 5/0568 | 04/29/15 | RNAV (GPS) RWY 5L, Amdt 1.
25-Jun-15 | MI | Detroit | Willow Run | 5/0571 | 04/29/15 | RNAV (GPS) RWY 9, Amdt 2.
25-Jun-15 | MI | Detroit | Willow Run | 5/0572 | 04/29/15 | VOR A, Amdt 1.
25-Jun-15 | MN | Princeton | Princeton Muni | 5/0865 | 04/29/15 | RNAV (GPS) RWY 15, Orig.
25-Jun-15 | MI | Detroit | Willow Run | 5/0926 | 04/29/15 | RNAV (GPS) RWY 5R, Amdt 1.
25-Jun-15 | IL | Rochelle | Rochelle Muni Airport-Koritz Field | 5/0952 | 04/29/15 | RNAV (GPS) RWY 7, Amdt 1.
25-Jun-15 | MO | Stockton | Stockton Muni | 5/1027 | 04/29/15 | RNAV (GPS) RWY 19, Orig-A.
25-Jun-15 | MO | Stockton | Stockton Muni | 5/1028 | 04/29/15 | RNAV (GPS) RWY 1, Orig.
25-Jun-15 | MO | Stockton | Stockton Muni | 5/1030 | 04/29/15 | VOR/DME-A, Amdt 3.
25-Jun-15 | GA | Macon | Middle Georgia Rgnl | 5/1727 | 04/29/15 | RNAV (GPS) RWY 23, Amdt 2A.
25-Jun-15 | GA | Macon | Middle Georgia Rgnl | 5/1728 | 04/29/15 | VOR RWY 23, Amdt 4A.
25-Jun-15 | GA | Macon | Middle Georgia Rgnl | 5/1730 | 04/29/15 | RNAV (GPS) RWY 31, Amdt 1A.
25-Jun-15 | GA | Macon | Middle Georgia Rgnl | 5/1731 | 04/29/15 | VOR RWY 13, Amdt 10A.
25-Jun-15 | GA | Macon | Middle Georgia Rgnl | 5/1733 | 04/29/15 | RNAV (GPS) RWY 13, Amdt 2A.
25-Jun-15 | DE | Middletown | Summit | 5/2043 | 04/30/15 | RNAV (GPS) RWY 17, Amdt 2.
25-Jun-15 | DE | Middletown | Summit | 5/2044 | 04/30/15 | RNAV (GPS) RWY 35, Amdt 1.
25-Jun-15 | DE | Middletown | Summit | 5/2045 | 04/30/15 | NDB-A, Amdt 8.
25-Jun-15 | FL | Fort Lauderdale | Fort Lauderdale/Hollywood Intl | 5/2080 | 04/30/15 | ILS OR LOC RWY 10R, Orig.
25-Jun-15 | FL | Fort Lauderdale | Fort Lauderdale/Hollywood Intl | 5/2082 | 04/30/15 | RNAV (GPS) RWY 10R, Orig.
25-Jun-15 | FL | Fort Lauderdale | Fort Lauderdale/Hollywood Intl | 5/2083 | 04/30/15 | RNAV (GPS) RWY 28L, Orig.
25-Jun-15 | FL | Fort Lauderdale | Fort Lauderdale/Hollywood Intl | 5/2084 | 04/30/15 | ILS OR LOC RWY 28L, Orig.
25-Jun-15 | SC | St George | St George | 5/2129 | 04/30/15 | RNAV (GPS) RWY 5, Orig.
25-Jun-15 | SD | Pine Ridge | Pine Ridge | 5/2159 | 04/29/15 | RNAV (GPS) RWY 30, Orig-A.
25-Jun-15 | TX | Amarillo | Rick Husband Amarillo Intl | 5/2163 | 04/29/15 | ILS OR LOC RWY 4, Amdt 22C.
25-Jun-15 | PA | Towanda | Bradford County | 5/2835 | 04/30/15 | RNAV (GPS) RWY 23, Orig.
25-Jun-15 | CO | Wray | Wray Muni | 5/2988 | 04/29/15 | RNAV (GPS) RWY 35, Amdt 1.
25-Jun-15 | CO | Wray | Wray Muni | 5/2992 | 04/29/15 | RNAV (GPS) RWY 17, Amdt 1.
25-Jun-15 | GA | Augusta | Daniel Field | 5/3440 | 04/29/15 | NDB RWY 11, Amdt 4.
25-Jun-15 | GA | Augusta | Daniel Field | 5/3442 | 04/29/15 | NDB/DME-C, Amdt 4.
25-Jun-15 | GA | Augusta | Daniel Field | 5/3443 | 04/29/15 | VOR/DME-B, Amdt 1.
25-Jun-15 | GA | Augusta | Daniel Field | 5/3444 | 04/29/15 | RADAR-1, Amdt 7B.
25-Jun-15 | FL | Crestview | Bob Sikes | 5/3455 | 04/30/15 | RNAV (GPS) RWY 17, Orig.
25-Jun-15 | FL | Crestview | Bob Sikes | 5/3456 | 04/30/15 | RNAV (GPS) RWY 35, Amdt 1A.
25-Jun-15 | MS | West Point | Mccharen Field | 5/3458 | 04/30/15 | RNAV (GPS) RWY 36, Orig-A.
25-Jun-15 | MS | West Point | Mccharen Field | 5/3459 | 04/30/15 | RNAV (GPS) RWY 18, Orig.
25-Jun-15 | GA | Nahunta | Brantley County | 5/3472 | 04/30/15 | RNAV (GPS) Y RWY 1, Orig.
25-Jun-15 | GA | Nahunta | Brantley County | 5/3473 | 04/30/15 | RNAV (GPS) Z RWY 1, Orig.
25-Jun-15 | GA | Nahunta | Brantley County | 5/3474 | 04/30/15 | RNAV (GPS) Y RWY 19, Orig.
25-Jun-15 | GA | Nahunta | Brantley County | 5/3475 | 04/30/15 | RNAV (GPS) Z RWY 19, Orig.
25-Jun-15 | MD | Ocean City | Ocean City Muni | 5/4248 | 04/30/15 | RNAV (GPS) RWY 2, Orig-A.
25-Jun-15 | MD | Ocean City | Ocean City Muni | 5/4250 | 04/30/15 | RNAV (GPS) RWY 14, Orig-E.
25-Jun-15 | MD | Ocean City | Ocean City Muni | 5/4252 | 04/30/15 | RNAV (GPS) RWY 32, Orig-A.
25-Jun-15 | TX | Crockett | Houston County | 5/5779 | 04/21/15 | RNAV (GPS) RWY 2, Orig-A.
25-Jun-15 | IL | Chicago/West Chicago | Dupage | 5/6878 | 04/21/15 | RNAV (GPS) RWY 2L, Orig-B.
25-Jun-15 | IL | Chicago/West Chicago | Dupage | 5/6879 | 04/21/15 | VOR RWY 2L, Amdt 1A.
25-Jun-15 | IL | Chicago/West Chicago | Dupage | 5/6880 | 04/21/15 | ILS OR LOC RWY 10, Amdt 8A.
25-Jun-15 | IL | Chicago/West Chicago | Dupage | 5/6881 | 04/21/15 | RNAV (GPS) RWY 10, Orig-B.
25-Jun-15 | IL | Chicago/West Chicago | Dupage | 5/6882 | 04/21/15 | VOR RWY 10, Amdt 12B.
25-Jun-15 | IL | Chicago/West Chicago | Dupage | 5/6883 | 04/21/15 | RNAV (GPS) RWY 20R, Amdt 1B.
25-Jun-15 | IL | Chicago/West Chicago | Dupage | 5/6884 | 04/21/15 | ILS OR LOC RWY 2L, Amdt 2B.
25-Jun-15 | IN | Bloomington | Monroe County | 5/7415 | 04/21/15 | VOR/DME RWY 6, Amdt 19A.
25-Jun-15 | WI | Oshkosh | Wittman Rgnl | 5/7416 | 04/21/15 | RNAV (GPS) RWY 36, Amdt 2.
25-Jun-15 | FL | Naples | Naples Muni | 5/7557 | 04/29/15 | VOR RWY 5, Amdt 5.
25-Jun-15 | NC | Wilmington | Wilmington Intl | 5/7591 | 04/30/15 | TACAN-A, Orig-A.
25-Jun-15 | OH | Carrollton | Carroll County-Tolson | 5/7778 | 04/21/15 | RNAV (GPS) RWY 7, Orig.
25-Jun-15 | MS | Starkville | George M Bryan | 5/7853 | 04/30/15 | RNAV (GPS) RWY 18, Amdt 2.
25-Jun-15 | MS | Starkville | George M Bryan | 5/7854 | 04/30/15 | RNAV (GPS) RWY 36, Amdt 3A.
25-Jun-15 | MS | Starkville | George M Bryan | 5/7855 | 04/30/15 | LOC/DME RWY 36, Amdt 1.
25-Jun-15 | TX | Gladewater | Gladewater Muni | 5/8044 | 04/21/15 | VOR/DME RWY 14, Amdt 3.
25-Jun-15 | TX | Gladewater | Gladewater Muni | 5/8045 | 04/21/15 | RNAV (GPS) RWY 14, Orig.
25-Jun-15 | TX | Gladewater | Gladewater Muni | 5/8046 | 04/21/15 | RNAV (GPS) RWY 32, Orig.
25-Jun-15 | CT | Bridgeport | Igor I Sikorsky Memorial | 5/8123 | 04/30/15 | RNAV (GPS) RWY 24, Orig.
25-Jun-15 | MA | Plymouth | Plymouth Muni | 5/8865 | 04/30/15 | RNAV (GPS) RWY 24, Orig-A.
25-Jun-15 | MA | Plymouth | Plymouth Muni | 5/8870 | 04/30/15 | ILS OR LOC/DME RWY 6, Amdt 1C.
25-Jun-15 | MA | Plymouth | Plymouth Muni | 5/8871 | 04/30/15 | RNAV (GPS) RWY 6, Amdt 1A.
25-Jun-15 | TX | Harlingen | Valley Intl | 5/9373 | 04/21/15 | VOR/DME RWY 17R, Orig.
25-Jun-15 | MI | Beaver Island | Beaver Island | 5/9380 | 04/21/15 | NDB RWY 27, Amdt 1.
25-Jun-15 | MI | Beaver Island | Beaver Island | 5/9381 | 04/21/15 | RNAV (GPS) RWY 27, Orig.
25-Jun-15 | KS | Marysville | Marysville Muni | 5/9535 | 04/21/15 | RNAV (GPS) RWY 34, Orig-A.
25-Jun-15 | AL | Greenville | Mac Crenshaw Memorial | 5/9665 | 04/29/15 | RNAV (GPS) RWY 32, Orig-A.
25-Jun-15 | AL | Greenville | Mac Crenshaw Memorial | 5/9667 | 04/29/15 | RNAV (GPS) RWY 14, Orig-A.
25-Jun-15 | PA | Punxsutawney | Punxsutawney Muni | 5/9674 | 04/29/15 | VOR/DME-A, Amdt 1.
25-Jun-15 | FL | Wauchula | Wauchula Muni | 5/9678 | 04/29/15 | RNAV (GPS) RWY 18, Amdt 1A.
25-Jun-15 | FL | Wauchula | Wauchula Muni | 5/9679 | 04/29/15 | RNAV (GPS) RWY 36, Amdt 1A.
25-Jun-15 | TX | Port Lavaca | Calhoun County | 5/9682 | 04/21/15 | RNAV (GPS) RWY 14, Amdt 2.
25-Jun-15 | TX | Port Lavaca | Calhoun County | 5/9683 | 04/21/15 | RNAV (GPS) RWY 32, Orig.
25-Jun-15 | TX | Port Lavaca | Calhoun County | 5/9684 | 04/21/15 | VOR/DME-A, Amdt 4A.
25-Jun-15 | VA | Norfolk | Hampton Roads Executive | 5/9718 | 04/29/15 | RNAV (GPS) RWY 10, Orig.
25-Jun-15 | MN | Pinecreek | Piney Pinecreek Border | 5/9749 | 04/21/15 | NDB RWY 33, Amdt 1.
25-Jun-15 | MN | Pinecreek | Piney Pinecreek Border | 5/9751 | 04/21/15 | RNAV (GPS) RWY 33, Orig.
25-Jun-15 | MN | Pinecreek | Piney Pinecreek Border | 5/9755 | 04/21/15 | RNAV (GPS) RWY 15, Orig.
25-Jun-15 | NY | Saranac Lake | Adirondack Rgnl | 5/9826 | 04/30/15 | LOC Y RWY 23, Orig-A.
25-Jun-15 | NY | Saranac Lake | Adirondack Rgnl | 5/9829 | 04/30/15 | RNAV (GPS) RWY 5, Amdt 1A.
25-Jun-15 | NY | Saranac Lake | Adirondack Rgnl | 5/9830 | 04/30/15 | VOR/DME RWY 5, Amdt 4A.
25-Jun-15 | NY | Saranac Lake | Adirondack Rgnl | 5/9831 | 04/30/15 | RNAV (GPS) RWY 9, Orig-A.
25-Jun-15 | NY | Saranac Lake | Adirondack Rgnl | 5/9832 | 04/30/15 | VOR RWY 9, Amdt 2A.
25-Jun-15 | PA | Philadelphia | Northeast Philadelphia | 5/9837 | 04/29/15 | RNAV (GPS) RWY 15, Amdt 1A.
25-Jun-15 | PA | Philadelphia | Northeast Philadelphia | 5/9838 | 04/29/15 | RNAV (GPS) RWY 33, Amdt 1A.
25-Jun-15 | PA | Bellefonte | Bellefonte | 5/9839 | 04/29/15 | RNAV (GPS) RWY 7, Orig.
25-Jun-15 | PA | Bellefonte | Bellefonte | 5/9841 | 04/29/15 | RNAV (GPS) RWY 25, Orig.
25-Jun-15 | FL | Merritt Island | Merritt Island | 5/9884 | 04/30/15 | RNAV (GPS) RWY 11, Amdt 1B.
25-Jun-15 | PA | Meadville | Port Meadville | 5/9919 | 04/29/15 | RNAV (GPS) RWY 7, Amdt 1.
25-Jun-15 | PA | Meadville | Port Meadville | 5/9922 | 04/29/15 | VOR RWY 7, Amdt 8.
25-Jun-15 | PA | Meadville | Port Meadville | 5/9926 | 04/29/15 | LOC RWY 25, Amdt 6.
25-Jun-15 | PA | Meadville | Port Meadville | 5/9927 | 04/29/15 | RNAV (GPS) RWY 25, Amdt 1.
25-Jun-15 | NY | Oneonta | Oneonta Muni | 5/9932 | 04/29/15 | RNAV (GPS) RWY 6, Orig.
25-Jun-15 | NY | Oneonta | Oneonta Muni | 5/9933 | 04/29/15 | RNAV (GPS) RWY 24, Orig.
25-Jun-15 | PA | Clarion | Clarion County | 5/9937 | 04/30/15 | RNAV (GPS) RWY 24, Amdt 1A.
25-Jun-15 | PA | Clarion | Clarion County | 5/9938 | 04/30/15 | VOR A, Amdt 3.
25-Jun-15 | NJ | Princeton/Rocky Hill | Princeton | 5/9946 | 04/29/15 | RNAV (GPS) RWY 28, Orig.
25-Jun-15 | NJ | Princeton/Rocky Hill | Princeton | 5/9950 | 04/29/15 | VOR-A, Amdt 7A.
25-Jun-15 | NY | Saranac Lake | Adirondack Rgnl | 5/9968 | 04/30/15 | ILS OR LOC/DME Z RWY 23, Amdt 9A.
25-Jun-15 | NY | Saranac Lake | Adirondack Rgnl | 5/9969 | 04/30/15 | RNAV (GPS) RWY 23, Orig-B.

[FR Doc. 2015-12110 Filed 5-20-15; 8:45 am]

BILLING CODE 4910-13-P